DEPARTMENT OF COMMERCE

International Trade Administration

[A-533-883, A-549-837, A-588-878, C-533-884, C-570-081]

Glycine From India, the People's Republic of China, Japan, and Thailand: Continuation of Antidumping and Countervailing Duty Orders

AGENCY: Enforcement and Compliance, International Trade Administration, Department of Commerce.

SUMMARY: As a result of the determinations by the U.S. Department of Commerce (Commerce) and the U.S. International Trade Commission (ITC) that revocation of the antidumping duty (AD) orders on glycine from India, Japan, and Thailand and countervailing duty (CVD) orders on glycine from India and the People's Republic of China (China), would likely lead to the continuation or recurrence of dumping, and material injury to an industry in the United States, Commerce is publishing a notice of continuation of these AD and CVD orders.

DATES: Applicable November 29, 2024.

FOR FURTHER INFORMATION CONTACT: Brian Smith, AD/CVD Operations, Office VIII, Enforcement and Compliance, International Trade Administration, U.S. Department of Commerce, 1401 Constitution Avenue NW, Washington, DC 20230; telephone: (202) 482-1766.

SUPPLEMENTARY INFORMATION:

Background

On June 21, 2019, Commerce published in the Federal Register the AD and CVD orders on glycine from India, China, and Japan and subsequently published the AD order on glycine from Thailand on October 18, 2019.¹ On May 1, 2024, the ITC instituted,² and Commerce initiated,³ the first sunset review of the Orders, pursuant to section 751(c) of the Tariff Act of 1930, as amended (the Act). As a result of its reviews, Commerce determined that revocation of the Orders would likely lead to the continuation or recurrence of dumping, and countervailable subsidies, and therefore, notified the ITC of the magnitude of the margins of dumping and subsidy rates likely to prevail should the Orders be revoked.⁴

¹ See Glycine from India and Japan: Amended Final Affirmative Antidumping Duty Determination and Antidumping Duty Orders, 84 FR 29170 (June 21, 2019); see also Glycine from Thailand: Antidumping Duty Order, 84 FR 55912 (October 18, 2019); see also Glycine from India and the People's Republic of China: Countervailing Duty Orders, 84 FR 29173 (June 21, 2019) (collectively, Orders).

² See Glycine from China, India, Japan, and Thailand; Institution of a Five-Year Review, 89 FR 35237 (May 1, 2024).

³ See Initiation of Five-Year (Sunset) Reviews, 89 FR 35073 (May 1, 2024).

⁴ See Glycine from India, Japan, and Thailand: Final Results of the Expedited First Sunset Review of the Antidumping Duty Orders, 89 FR 74206 (September 12, 2024), and accompanying Issues and Decision Memorandum (IDM) and Glycine from India and the People's Republic of China: Final Results of the Expedited First Sunset Reviews of the Countervailing Duty Orders, 89 FR 74898 (September 13, 2024), and accompanying IDM.

On November 29, 2024, the ITC published its determination, pursuant to sections 751(c) and 752(a) of the Act, that revocation of the Orders would likely lead to continuation or recurrence of material injury to an industry in the United States within a reasonably foreseeable time.⁵

⁵ See Glycine from China, India, Japan, and Thailand, 89 FR 94761 (November 29, 2024) (ITC Final Determination).

Scope of the Orders

The merchandise covered by these Orders is glycine at any purity level or grade. This includes glycine of all purity levels, which covers all forms of crude or technical glycine including, but not limited to, sodium glycinate, glycine slurry and any other forms of amino acetic acid or glycine. Subject merchandise also includes glycine and precursors of dried crystalline glycine that are processed in a third country, including, but not limited to, refining or any other processing that would not otherwise remove the merchandise from the scope of these Orders if performed in the country of manufacture of the in-scope glycine or precursors of dried crystalline glycine. Glycine has the Chemical Abstracts Service (CAS) registry number of 56-40-6.

Glycine and glycine slurry are classified under Harmonized Tariff Schedule of the United States (HTSUS) subheading 2922.49.43.00. Sodium glycinate is classified in the HTSUS under 2922.49.80.00. While the HTSUS subheadings and CAS registry number are provided for convenience and customs purposes, the written description of the scope of these Orders is dispositive.

Continuation of the Orders

As a result of the determinations by Commerce and the ITC that revocation of the Orders would likely lead to continuation or recurrence of dumping, countervailable subsidies, and material injury to an industry in the United States, pursuant to section 751(d)(2) of the Act, Commerce hereby orders the continuation of the Orders. U.S. Customs and Border Protection will continue to collect AD and CVD cash deposits at the rates in effect at the time of entry for all imports of subject merchandise.

The effective date of the continuation of the Orders is November 29, 2024.⁶ Pursuant to section 751(c)(2) of the Act and 19 CFR 351.218(c)(2), Commerce intends to initiate the next five-year reviews of the Orders not later than 30 days prior to fifth anniversary of the date of the effective date of this continuation

⁶ See ITC Final Determination.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

These five-year (sunset) reviews and this notice are in accordance with sections 751(c) and 751(d)(2) of the Act and this notice is published in accordance with section 777(i)(1) of the Act, and 19 CFR 351.218(f)(4).

Dated: January 22, 2025.
Abdelali Elouaradia,
Acting Assistant Secretary for Enforcement and Compliance.

[FR Doc. 2025-01795 Filed 1-27-25; 8:45 am]

BILLING CODE 3510-DS-P